ENVIRONMENTAL PROTECTION AGENCY

[FRL-7589-6]

Proposed CERCLA Administrative Cost Recovery Settlement; Richmond Townhouse Apartments Site

AGENCY: Environmental Protection Agency (EPA).

ACTION: Notice; request for public comment.

SUMMARY: In accordance with section 122(i) of the Comprehensive Environmental Response, Compensation, and Liability Act, as amended (“CERCLA”), 42 U.S.C. 9622(i), notice is hereby given of a proposed administrative settlement for recovery of past response costs concerning the Richmond Townhouse Apartments Site in Richmond, Contra Costa County, California with the following settling parties: Richmond Townhouses Apartments, Ltd.; Partnership Investor Services, Inc.; Westport Housing Corporation; Stephen D. Moses; and S. Chandler Sweetser, Jr. The settlement requires the settling parties to pay $1,400,000 to the Hazardous Substance Superfund. The settlement includes a covenant not to sue the settling party pursuant to Section 107(a) of CERCLA, 42 U.S.C. 9607(a). For thirty (30) days following the date of publication of this notice, the Agency will receive written comments relating to the settlement. The Agency will consider all comments received and may modify or withdraw its consent to the settlement if comments received disclose facts or considerations which indicate that the settlement is inappropriate, improper, or inadequate. The Agency's response to any comments received will be available for public inspection at 75 Hawthorne Street, San Francisco, CA 94105.

DATES: Comments must be submitted on or before December 24, 2003.

ADDRESSES: The proposed settlement is available for public inspection at EPA Region IX, 75 Hawthorne Street, San Francisco, California. A copy of the proposed settlement may be obtained from Janet Magnuson, EPA Region IX, 75 Hawthorne Street, ORC-3, San Francisco, CA 94105, telephone number 415-972-3887. Comments should reference the Richmond Townhouse Apartments Superfund Site, Richmond, California and EPA Docket No. 2004-06 and should be addressed to Janet Magnuson at the above address.

FOR FURTHER INFORMATION CONTACT: Janet Magnuson, Assistant Regional Counsel (ORC-3), Office of Regional Counsel, U.S. EPA Region IX, 75 Hawthorne Street, San Francisco, CA 94105; phone: (415) 972-3887; fax: (415) 947-3570; e-mail to: magnuson.janet@epa.gov.

Dated: November 14, 2003.
Nancy Lindsay,
Acting Director, Superfund Division, Region IX.

[FR Doc. 03-29315 Filed 11-21-03; 8:45 am]

BILLING CODE 6560-50-P